SMALL BUSINESS ADMINISTRATION

[Declaration of Disaster #3246]

Commonwealth of Kentucky

As a result of the President's major disaster declaration on February 28, 2000, I find that Bath, Boyd, Carter, Fleming, Greenup, Lewis, Mason, Nicholas, Robertson, and Rowan Counties in the Commonwealth of Kentucky constitute a disaster area due to damages caused by severe storms and flooding beginning on February 18, 2000 and continuing. Applications for loans for physical damage as a result of this disaster may be filed until the close of business on April 28, 2000 and for economic injury until the close of business on November 28, 2000 at the address listed below or other locally announced locations:

Small Business Administration, Disaster Area 2 Office, One Baltimore Place, Suite 300, Atlanta, GA 30308.

In addition, applications for economic injury loans from small businesses located in the following contiguous counties may be filed until the specified date at the above location: Bourbon, Bracken, Elliott, Harrison, Lawrence, Menifee, Montgomery, and Morgan Counties in Kentucky and Adams, Brown, Lawrence, and Scioto Counties in Ohio.

Any counties contiguous to the above-named primary counties and not listed herein have been covered under a separate declaration for the same occurrence.

The interest rates are:

| Percent
For Physical Damage:
HOMEOWNERS WITH CREDIT AVAILABLE ELSEWHERE | 7.625
HOMEOWNERS WITHOUT CREDIT AVAILABLE ELSEWHERE | 3.812
BUSINESSES WITH CREDIT AVAILABLE ELSEWHERE | 8.000
BUSINESSES AND NON-PROFIT ORGANIZATIONS WITHOUT CREDIT AVAILABLE ELSEWHERE | 4.000
OTHERS (INCLUDING NON-PROFIT ORGANIZATIONS) WITH CREDIT AVAILABLE ELSEWHERE | 6.750
For Economic Injury:
BUSINESSES AND SMALL AGRICULTURAL COOPERATIVES WITHOUT CREDIT AVAILABLE ELSEWHERE | 4.000

The number assigned to this disaster for physical damage is 324606. For economic injury the numbers are 9G8300 for Kentucky and 9G8400 for Ohio.

(Catalog of Federal Domestic Assistance Program Nos. 59002 and 59008)
Dated: March 2, 2000.
Herbert L. Mitchell,
Acting Associate Administrator for Disaster Assistance.

[FR Doc. 00-6352 Filed 3-14-00; 8:45 am]

BILLING CODE 8025-01-P